DEPARTMENT OF STATE

[Public Notice: 12345]

Department of State Clean Energy Resources Advisory Committee

ACTION: Advisory committee charter renewal; notice.

SUMMARY: The Secretary of State announces renewal of the charter of the Department of State Clean Energy Resources Advisory Committee (CERAC), in accordance with the Federal Advisory Committee Act.

FOR FURTHER INFORMATION CONTACT: Mark Murray, 771-205-0994, MurrayMJ@state.gov.

SUPPLEMENTARY INFORMATION:

Nature and Purpose: The Committee provides input and advice on major issues and problems in regard to energy minerals, their supply chains, and end uses.

Other information: It is anticipated that CERAC will meet at least once per year and at such other times and places as are required to fulfill the objectives of the committee. The Department of State affirms that the advisory committee is necessary and in the public interest.

Mark J. Murray,
Energy Officer, Bureau of Energy Resources, Department of State.

[FR Doc. 2024-04142 Filed 2-27-24; 8:45 am]

BILLING CODE 4710-AE-P